DEPARTMENT OF JUSTICE

Antitrust Division

Notice Pursuant to The National Cooperative Research and Production Act of 1993—Undersea Technology Innovation Consortium

Notice is hereby given that, on November 10, 2021, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Shield AI, Inc., San Diego, CA; AEGIS Power Systems, Inc., Murphy, NC; Southwest Research Institute, San Antonio, TX; ATI Engineering Services LLC, Johnstown, PA; FORCE 3 LLC, Crofton, MD; Composite Energy Technologies dba GOETZ Composites, Bristol, RI; Windings, Inc., New Ulm, MN; MaXentric Technologies LLC, Fort Lee, NJ; Optoknowledge, Torrance, CA; Gird Systems, INC., Cincinnati, OH; Columbia Power Technologies, Inc., Charlottesville, VA; Critical Prism Defense LLC, Ashland, MA; Pandata Tech, Inc., Houston, TX; XR 2 Lead LLC, Dumfries, VA; Sea Machine Robotics, Inc., Boston, MA; Leapfrog AI, Colorado Springs, CO; University of Connecticut, Storrs, CT; Ward Leonard CT LLC, Thomaston, CT; Art Anderson Associates, Inc., Bremerton, WA; Dragonfly Pictures, Inc., Essington, PA; American Defense International, Inc., Washington, DC; Alluvionic, Inc., Melbourne, FL; and Modern Intelligence, Inc., Austin, TX, have been added as parties to this venture.

Also, Allegheny Technologies, Inc., Billerica, MA; Applied Mathematics, Inc., Gales Ferry, CT; Aretec, Inc., Providence, RI; Asymmetric Technologies LLC, Columbus, OH; Aviation & Missile Solutions LLC, Huntsville, AL; BAE Systems Technology Solutions & Services, Inc., Rockville, MD; Clear Carbon And Components, Inc., Bristol, RI; Cognitech Corporation, Salt Lake City, UT; Critical Frequency Design LLC, Melbourne, FL; DE Technologies, Inc., King of Prussia, PA; Design Interactive, Inc., Orlando, FL; Dynexus Technology, Inc., Niwot, CO; Entanglement Research Institute, Inc., Newport, RI; GE Research, Niskayuna, NY; I Square Systems LLC, Middletown, RI; I-Assure LLC, Mandeville, LA; Kern Technology Group LLC, Virginia Beach, VA; L3 Communication Systems-East, Camden, NJ; L3 Harris Maripro, Goleta, CA; Lockheed Martin Sippican, Inc., Marion, MA; Maritime Arresting Technologies LLC, Tarpon Springs, FL; Ocean Acoustical Services & Instrumentation Systems, Inc., Lexington, MA; R&D Technologies, Inc., N Kingstown, RI; Red River Technology LLC, Claremont, NH; Remote Sensing Solutions, Barnstable, MA; Search, Inc., Orlando, FL; Terradepth, Inc., Austin, TX; The Aegis Technologies Group, Inc., Huntsville, AL; VIASAT, Inc., Carlsbad, CA; Voltaig, Inc., Berkeley, CA; VSOLVIT LLC, Ventura, CA; WWM Solutions LLC, Washington, DC; Quickflex, Inc., San Antonio, TX; Raytheon Missle Systems, Fall River, MA; Simventions, Inc., Rome, NY; Aquabotix Technology Corporation, Fall River, MA; HII Fleet Support Group LLC, Virginia Beach, VA; Spatial Intergrated Systems, Inc., Virginia Beach, VA; EDGEONE LLC dba EDGETECH, Boca Raton, FL; OLIS ROBOTICS dba BLUEHAPTICS, Seattle, WA; Analytical Graphics, Inc., Exton, PA; Gavial ITC LLC, Santa Barbara, CA; Parker Hannifin Corporation, Mayfield Heights, OH; Problem Solutions LLC, Johnstown, PA; Savant Financial Technologies, Inc., dba Ariel Partners, New York, NY; Omni Federal, Gainesville, VA; Ceranova Corporation, Marlborough, MA; Triumph Enterprises, Inc., Vienna, VA; Cambridge International Systems, Inc., Arlington, VA; and, SA Photonics, Inc., Los Gatos, CA have withdrawn from this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on February 5, 2021. A notice was published in the Federal Register pursuant to Section 6(b) of the Act on March 10, 2021 (86 FR 13752).

Suzanne Morris,
Chief, Premerger and Division Statistics, Antitrust Division.

[FR Doc. 2021-27750 Filed 12-21-21; 8:45 am]

BILLING CODE P